DEPARTMENT OF COMMERCE

International Trade Administration

[A-821-828]

Certain Aluminum Foil From the Russian Federation: Final Affirmative Determination of Sales at Less Than Fair Value

AGENCY: Enforcement and Compliance, International Trade Administration, Department of Commerce.

SUMMARY: The Department of Commerce (Commerce) determines that imports of certain aluminum foil from the Russian Federation (Russia) are being, or are likely to be, sold in the United States at less than fair value (LTFV). The period of investigation is July 1, 2019, through June 30, 2020.

DATES: Applicable September 23, 2021.

FOR FURTHER INFORMATION CONTACT: Michael J. Heaney, AD/CVD Operations, Office VI, Enforcement and Compliance, International Trade Administration, U.S. Department of Commerce, 1401 Constitution Avenue NW, Washington, DC 20230; telephone: (202) 482-4475.

SUPPLEMENTARY INFORMATION:

Background

On May 4, 2021, Commerce published in the Federal Register the preliminary affirmative determination in the LTFV investigation of aluminum foil from Russia, and postponement of final determination until September 16, 2021.¹ We invited interested parties to comment on the Preliminary Determination. We received no comments from interested parties. Accordingly, the final determination is unchanged from the Preliminary Determination.

¹ See Certain Aluminum Foil from Russia: Preliminary Affirmative Determination of Sales at Less Than Fair Value, Postponement of Final Determination, and Extension of Provisional Measures, 86 FR 23683 (May 4, 2021) (Preliminary Determination), and accompanying Preliminary Decision Memorandum.

Scope of the Investigation

The product covered by this investigation is aluminum foil from Russia. For a complete description of the scope of this investigation, see the appendix to this notice.

Scope Comments

In accordance with the Preamble to Commerce's regulations,² the Initiation Notice ³ set aside a period of time for parties to raise issues regarding product coverage (i.e., scope).⁴ Certain interested parties commented on the scope of the investigation as it appeared in the Initiation Notice, and we addressed these comments in the Preliminary Scope Decision Memorandum.⁵ Interested parties were provided an opportunity to comment on the Preliminary Scope Decision Memorandum.⁶ We received no scope briefs requesting changes to the scope of the antidumping or countervailing duty investigations of aluminum foil from the Republic of Armenia, Brazil, the Sultanate of Oman, the Russian Federation, and the Republic of Turkey. Additionally, we received a letter from the petitioners ⁷ urging Commerce to maintain the same scope language which was set forth in both the Initiation Notice or Preliminary Determination.⁸ Accordingly, Commerce is not modifying the scope language as it appeared in the Initiation Notice or Preliminary Determination. See the appendix to this notice for the final scope of the investigation.

² See Antidumping Duties; Countervailing Duties, Final Rule, 62 FR 27296, 27323 (May 19, 1997).

³ See Certain Aluminum Foil from the Republic of Armenia, Brazil, the Sultanate of Oman, the Russian Federation, and the Republic of Turkey: Initiation of Less-Than-Fair-Value Investigations, 85 FR 67711 (October 26, 2020) (Initiation Notice).

⁴ See Initiation Notice.

⁵ See Memorandum, “Antidumping and Countervailing Duty Investigations of Certain Aluminum Foil from the Republic of Armenia, Brazil, the Sultanate of Oman, the Russian Federation, and the Republic of Turkey: Preliminary Scope Decision Memorandum,” dated April 27, 2021 (Preliminary Scope Decision Memorandum).

⁶ Id.

⁷ The Aluminum Association Trade Enforcement Working Group and its individual members, Granges America Inc., JW Aluminum Company and Novelis Corporation constitute the petitioners.

⁸ See Petitioners' Letter, “Certain Aluminum Foil from the Republic of Armenia, Brazil, the Sultanate of Oman, the Russian Federation, and the Republic of Turkey—Petitioners' Final Scope Comments,” dated September 8, 2021.

Verification

Rusal Marketing GmbH, Rusal Products GmbH, RTI Limited, JSC United Company Trading House, JSC Rusal Sayanal, and JSC Ural Foil (collectively, Rusal), the sole mandatory respondent in this investigation, declined to participate and did not provide information requested by Commerce. Therefore, Commerce reached the Preliminary Determination entirely on the basis of facts available with the application of adverse inferences (AFA). Accordingly, because the Preliminary Determination was based entirely on AFA, Commerce conducted no verification of Rusal pursuant to section 782(i) of the Tariff Act of 1930, as amended (the Act).⁹

⁹ See Preliminary Determination, 86 FR at 23685.

All-Others Rate

Sections 733(d)(1)(A)(ii) and 735(c)(5)(A) of the Act provide that the estimated weighted-average dumping margin for all other producers and exporters not individually investigated shall be equal to the weighted average of the estimated weighted-average dumping margins established for exporters and producers individually investigated, excluding rates that are zero, de minimis, or determined entirely under section 776 of the Act. Pursuant to section 735(c)(5)(B) of the Act, if the estimated weighted-average dumping margins established for all exporters and producers individually examined are zero, de minimis, or determined based entirely on facts otherwise available, Commerce may use any reasonable method to establish the estimated weighted-average dumping margin for all other producers and exporters.

Commerce continues to determine the estimated weighted-average dumping margin for Rusal based entirely on AFA, as stipulated in section 776 of the Act. Pursuant to section 735(c)(5)(B) of the Act, Commerce's normal practice under these circumstances has been to calculate the all-others rate as a simple average of the alleged dumping margins from the petition. There is a single dumping margin alleged in the Petition (i.e., 62.18 percent); ¹⁰ accordingly, we have used that rate as the estimated weighted-average dumping margin for all other producers and exporters.

¹⁰ See Petitioners' Letter, “Certain Aluminum Foil from Armenia, Brazil, Oman, Russia, and Turkey—Petitioners' Supplement to Volume V Relating to a Request for the Imposition of Antidumping Duties on Imports from Russia,” dated October 6, 2020 at 4 and Exhibit AD-RU-S1-3; see also Initiation Notice, 85 FR at 67714; see also Memorandum, “Certain Aluminum Foil from Russia Antidumping Duty Investigation Initiation Checklist,” dated October 19, 2020 at 8.

Final Determination

Commerce determines that the following estimated weighted-average dumping margins exist:

Exporter or producer | Estimated weighted- average dumping margin (percent)
Rusal Marketing GmbH/Rusal Products GmbH/RTI Limited/JSC United Company Rusal—Trading House/JSC Rusal Sayanal/JSC Ural Foil | * 62.18
All Others | * 62.18

Disclosure

Normally, Commerce discloses its calculations and analysis performed to interested parties within five days of any public announcement or, if there is no public announcement, within five days of the date of publication of the notice of final determination in the Federal Register, in accordance with 19 CFR 351.224(b). However, because we applied AFA and performed no margin calculations, no disclosure will be made in this final determination.

Continuation of Suspension of Liquidation

In accordance with section 735(c)(1)(B) of the Act, we will instruct U.S. Customs and Border Protection (CBP) to continue to suspend liquidation of all appropriate entries of certain aluminum foil from Russia, as described in the appendix to this notice, which were entered, or withdrawn from warehouse, for consumption on or after May 4, 2021, the date of publication of the Preliminary Determination in the Federal Register. Pursuant to section 735(c)(1)(B)(ii) of the Act, upon the publication of this notice, Commerce will instruct CBP to require a cash deposit as follows: (1) The cash deposit rate for the respondents listed above will be equal to the company-specific estimated weighted-average dumping margins determined in this final determination; (2) if the exporter is not a respondent identified above, but the producer is, then the cash deposit rate will be equal to the company-specific estimated weighted-average dumping margin established for that producer of the subject merchandise; and (3) the cash deposit rate for all other producers and exporters will be equal to the all-others estimated weighted-average dumping margin.

These suspension of liquidation instructions will remain in effect until further notice.

International Trade Commission Notification

In accordance with section 735(d) of the Act, we will notify the International Trade Commission (ITC) of the final affirmative determination of sales at LTFV. Because the final determination in this proceeding is affirmative, in accordance with section 735(b)(2) of the Act, the ITC will make its final determination as to whether the domestic industry in the United States is materially injured, or threatened with material injury, by reason of imports of subject merchandise from Russia no later than 45 days after our final determination. If the ITC determines that such injury does not exist, this proceeding will be terminated, and all cash deposits posted will be refunded. If the ITC determines that such injury does exist, Commerce will issue an AD order directing CBP to assess, upon further instruction by Commerce, antidumping duties on all imports of the subject merchandise entered, or withdrawn from warehouse, for consumption on or after the effective date of the suspension of liquidation.

Notification Regarding Administrative Protective Orders

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and the terms of an APO is a violation subject to sanction.

Notification to Interested Parties

This determination is issued and published in accordance with sections 735(d) and 777(i)(1) of the Act and 19 CFR 351.210(c).

Dated: September 16, 2021.
James Maeder,
Deputy Assistant Secretary for Antidumping and Countervailing Duty Operations.

Appendix

Scope of the Investigation

The merchandise covered by this investigation is aluminum foil having a thickness of 0.2 mm or less, in reels exceeding 25 pounds, regardless of width. Aluminum foil is made from an aluminum alloy that contains more than 92 percent aluminum. Aluminum foil may be made to ASTM specification ASTM B479, but can also be made to other specifications. Regardless of specification, however, all aluminum foil meeting the scope description is included in the scope, including aluminum foil to which lubricant has been applied to one or both sides of the foil.

Excluded from the scope of this investigation is aluminum foil that is backed with paper, paperboard, plastics, or similar backing materials on one side or both sides of the aluminum foil, as well as etched capacitor foil and aluminum foil that is cut to shape. Where the nominal and actual measurements vary, a product is within the scope if application of either the nominal or actual measurement would place it within the scope based on the definitions set forth above. The products under investigation are currently classifiable under Harmonized Tariff Schedule of the United States (HTSUS) subheadings 7607.11.3000, 7607.11.6090, 7607.11.9030, 7607.11.9060, 7607.11.9090, and 7607.19.6000.

Further, merchandise that falls within the scope of this proceeding may also be entered into the United States under HTSUS subheadings 7606.11.3060, 7606.11.6000, 7606.12.3045, 7606.12.3055, 7606.12.3091, 7606.12.3096, 7606.12.6000, 7606.91.3095, 7606.91.6095, 7606.92.3035, and 7606.92.6095. Although the HTSUS subheadings are provided for convenience and customs purposes, the written description of the scope of this investigation is dispositive.

[FR Doc. 2021-20540 Filed 9-22-21; 8:45 am]

BILLING CODE 3510-DS-P